EXPORT-IMPORT BANK

Postponement Notice of Open Special Meeting of the Sub-Saharan Africa Advisory Committee of the Export-Import Bank of the United States (Ex-Im Bank)

SUMMARY: The Sub-Saharan Africa Advisory Committee was established by Public Law 105-121, November 26, 1997, to advise the Board of Directors on the development and implementation of policies and programs designed to support the expansion of the Bank's financial commitments in Sub-Saharan Africa under the loan, guarantee, and insurance programs of the Bank. Further, the Committee shall make recommendations on how the Bank can facilitate greater support by U.S. commercial banks for trade with Sub-Saharan Africa.

Postponement: The Sub-Saharan Africa Advisory Committee of the Export-Import Bank of the United States must postpone its Tuesday, April 30, 2013, Open Special Meeting until further notice.

FOR FURTHER INFORMATION CONTACT: For further information, contact Exa Richards, 811 Vermont Avenue NW., Washington, DC 20571, (202) 565-3455.

Sharon Whitt,
Director, Information Quality and Records Management.

[FR Doc. 2013-09868 Filed 4-25-13; 8:45 am]

BILLING CODE 6690-01-P